DEPARTMENT OF TRANSPORTATION

National Highway Traffic Safety Administration

[Docket NHTSA-2010-00062]

Consumer Information; Program for Child Restraint Systems; Correction

AGENCY: National Highway Traffic Safety Administration (NHTSA), Department of Transportation (DOT).

ACTION: Request for comments; correction.

SUMMARY: NHTSA published in the Federal Register of February 25, 2011 a request for comments notice detailing observations from an agency pilot study conducted to determine reasonable conditions for participation in a new consumer information program, as part of the New Car Assessment Program, to help caregivers find a child restraint system (“child safety seat”) that fits their vehicle. This document corrects the public comments submission due date.

DATES: Comments should be submitted early enough to ensure that they are received no later than April 26, 2011.

FOR FURTHER INFORMATION CONTACT: For non-legal issues related to the Vehicle-Child Restraint System (CRS) Fit program, you may contact Ms. Jennifer N. Dang, Office of Crashworthiness Standards (Telephone: 202-493-0598). For legal issues, you may contact Ms. Deirdre Fujita, Office of Chief Counsel (Telephone: 202-366-2992). You may send mail to these officials at the National Highway Traffic Safety Administration, 1200 New Jersey Avenue, SE., West Building, Washington, DC 20590-0001.

SUPPLEMENTARY INFORMATION: NHTSA published in the Federal Register of February 25, 2011 (76 FR 10637), a request for comments notice describing the new consumer information program that will help caregivers find a child restraint system that fits their vehicle. In that document, on page 10637, in the DATES section, it states that “comments should be submitted early enough to ensure that they are received no later than March 28, 2011.” In that section, change the date from “March 28, 2011” to “April 26, 2011.”

Issued on: March 17, 2011.
Joseph S. Carra,
Acting Associate Administrator for Rulemaking.

[FR Doc. 2011-6729 Filed 3-22-11; 8:45 am]

BILLING CODE 4910-59-P